DEPARTMENT OF LABOR

Office of the Secretary

Submission for OMB Review: Comment Request

July 23, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Mine Safety and Health Administration (MSHA), Office of Management and Budget, 725 17th Street, NW., Room 10235, Washington, DC 20503, Telephone: 202-395-4816/Fax: 202-395-5806 (these are not toll-free numbers), E-mail: OIRA_submission@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title of Collection: Miner Operator Dust Cards.

OMB Control Number: 1219-0011.

Form Number: N/A.

Estimated Number of Respondents: 830.

Estimated Total Annual Burden Hours: 33,199.

Estimated Total Annual Cost Burden (does not include hourly wage costs): $3,839,714.

Affected Public: Business or other for profits (mines)

Description: Coal Mine operators are required to collect and submit respirable dust samples to MSHA for analysis. Pertinent information associated with identifying and analyzing these samples is submitted on the dust data cards that accompany the samples. For additional information, see related notice published at 74 FR 19988 on April 30, 2009.

Agency: Mine Safety and Health Administration.

Type of Review: Extension without change of currently approved collection.

Title of Collection: Ground Control Plan.

OMB Control Number: 1219-0026.

Form Number: N/A.

Estimated Number of Respondents: 925.

Estimated Total Annual Burden Hours: 2,841.

Estimated Total Annual Cost Burden (does not include hourly wage costs): $520.

Affected Public: Business or other for profits (mines)

Description: Ground control plans are reviewed by MSHA to ensure that surface coal mine operators' methods of controlling highwalls and spoil banks are consistent with prudent engineering design and will ensure safe working conditions for miners. For additional information, see related notice published at Vol. 74 FR 19987 on April 30, 2009.

Agency: Mine Safety and Health Administration.

Type of Review: Extension without change of currently approved collection.

Title of Collection: Underground Retorts.

OMB Control Number: 1219-0096.

Form Number: N/A.

Estimated Number of Respondents: 1.

Estimated Total Annual Burden Hours: 160.

Estimated Total Annual Cost Burden (does not include hourly wage costs): $0.

Affected Public: Business or other for profits (mines)

Description: Falls of roofs, faces, ribs, and highwalls in surface mines, historically, have been among the leading cause of injuries and deaths in mines. Therefore, in order to protect the safety of miners, mine operators are required to obtain certification from the manufacturers that roof and rock bolts and accessories are manufactured and tested in accordance with the applicable American Society for Testing and Materials specifications and make that certification available to an authorized representative of the Secretary. For additional information, see related notice published at 74 FR 19986 on April 30, 2009.

Darrin A, King,
Departmental Clearance Officer.

[FR Doc. E9-17998 Filed 7-28-09; 8:45 am]

BILLING CODE 4510-43-P